DEPARTMENT OF DEFENSE

GENERAL SERVICES ADMINISTRATION

NATIONAL AERONAUTICS AND SPACE ADMINISTRATION

48 CFR Parts 1, 36, and 53

[FAR Case 2000-608 (Extension of Comment Period)]

RIN 9000-AJ15

Fedral Acquisition Regulation; New Consolidated Form for Selection of Architect-Engineer Contractors

AGENCIES: Department of Defense (DoD), General Services Administration (GSA), and National Aeronautics and Space Administration (NASA).

ACTION: Notice; extension of comment period.

SUMMARY: On October 19, 2001 66 FR 53314, the Civilian Agency Acquisition Council and the Defense Acquisition Regulations Council (Councils) proposed to amend the Federal Acquisition Regulation (FAR) to replace SF 254, Architect-Engineer and Related Services Questionnaire, and SF 255, Architect-Engineer and Related Services Questionnaire for Specific Projects, with SF 330, Architect-Engineer Qualifications. This notice extends the comment period for the proposed rule to January 8, 2002.

DATES: Interested parties should submit comments in writing on or before January 8, 2002 to be considered in the formulation of a final rule.

ADDRESSES: Submit written comments to: General Services Administration, FAR Secretariat (MVP), 1800 F Street, NW, Room 4035, ATTN: Laurie Duarte, Washington, DC 20405.

Submit electronic comments via the Internet to: farcase.2000-608@gsa/gov

Please submit comments only and cite FAR case 2000-608 in all correspondence related to this case.

FOR FURTHER INFORMATION CONTACT: The FAR Secretariat, Room 4035, GS Building, Washington, DC, 20405, at (202) 501-4755 for information pertaining to status or publication schedules. For clarification of content, contract Ms. Cecelia L. Davis, Procurement Analyst, at (202) 219-0202. Please cite FAR case 2000-608.

Dated: December 14, 2001.
Gloria M. Sochon,
Acting Director, Acquisition Policy Division.

[FR Doc. 01-31304 Filed 12-19-01; 8:45 am]

BILLING CODE 6820-EP-M